DEPARTMENT OF AGRICULTURE

Submission for OMB Review; Comment Request

September 11, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), Washington, DC, OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Understanding the Threats of Wildfire and Climate Change: Risk Mitigation Behaviors of Homeowners.

OMB Control Number: 0596-New.

Summary of Collection: The number of people living in wildland-urban interface areas that are threatened by wildfire has increased significantly over the past twenty to thirty years.

This, in turn has lead to increased risk to human and ecosystem health. In efforts to mitigate this risk the U.S. Forest Service (FS) uses techniques such as prescribed fire and selective thinning of vegetation to reduce fuel loads. Homeowners living in these areas also engage in activities, such as clearing brush from around their homes to mitigate risk. To understand homeowner behavior and their response to various sources of risk requires asking individuals living in high risk communities what they are doing and why they are doing it. A census of the homeowner population is the most effective statistically valid approach to expanding our understanding of these issues. The information collected from homeowners under this project will help forest service management meet the requirements of forest planning under the National Forest Management Act of 1976, the National Environmental Policy Act of 1969 for public input on federal decision making, and the National Fire Plan of 2001 that authorized social science research on wildfire and is funding this project.

Need and Use of the Information: Homeowners located in the wildland-urban interface in areas that were affected by wildfires, will be asked to complete a voluntary one time survey. Questions will help determine the link between homeowners' perceived risk to themselves and their property from wildfire and their behavior to mitigate that threat. Type of information collected will include (1) risk perceptions regarding wildfire, (2) risk reduction behaviors associated with wildfire, (3) sources of information regarding wildfires and wildfire risk reduction, (4) attitudes and knowledge of climate change and its impact on wildfire risks, and (5) socio-economic information. This study will help decision makers better understand the preferences of the homeowners in high risk areas to deal with threats that are posed from wildfire as these risks are enhanced due to the effects of climate change.

Description of Respondents: Individuals or households.

Number of Respondents: 400.

Frequency of Responses: Reporting: Other (one time).

Total Burden Hours: 130.

Charlene Parker,
Departmental Information Collection Clearance Officer.

[FR Doc. 2012-22811 Filed 9-14-12; 8:45 am]

BILLING CODE 3410-11-P